DEPARTMENT OF HOMELAND SECURITY

[Docket No. DHS-2009-0008]

The National Infrastructure Advisory Council

AGENCY: Directorate for National Protection and Programs, Department of Homeland Security.

ACTION: Committee Management; Notice of cancellation for Federal Advisory Committee Meeting.

SUMMARY: The meeting of the National Infrastructure Advisory Council (NIAC) scheduled for Tuesday April 14, 2009 at the J.W. Marriott, 1331 Pennsylvania Avenue, Washington, DC announced in the Federal Register on February 17, 2009 (73 FR 7456), will not be held.

FOR FURTHER INFORMATION CONTACT: Contact Matthew Sickbert by phone at 703-235-2888 or by e-mail at Matthew.Sickbert@associates.dhs.gov.

Dated: April 9, 2009.
Nancy J. Wong,
Designated Federal Officer for the NIAC.

[FR Doc. E9-8541 Filed 4-10-09; 11:15 am]

BILLING CODE 4410-10-P